DEPARTMENT OF HEALTH AND HUMAN SERVICES

[Document Identifier: OS-0955-0003]

Agency Father Generic Information Collection Request. 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before April 23, 2021.

ADDRESSES: Submit your comments to Sherrette.Funn@hhs.gov or by calling (202) 795-7714.

FOR FURTHER INFORMATION CONTACT: When submitting comments or requesting information, please include the document identifier 0955-0003-60D, and project title for reference, to Sherrette Funn, the Reports Clearance Officer, Sherrette.funn@hhs.gov, or call 202-795-7714.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Generic Clearance for the Collection of Qualitative Feedback on Agency Service Delivery.

Type of Collection: Father Generic ICR.

OMB No. 0955-0003—Office of the National Coordinator for Health Information Technology.

Abstract: The Office of the National Coordinator for Health Information Technology is seeking a three-year extension of OMB control number 0955-0003 to continue collecting routine customer feedback on agency service delivery. The proposed information collection activity provides a means to garner qualitative customer and stakeholder feedback in an efficient, timely manner, in accordance with the Administration's commitment to improving service delivery. Qualitative feedback means information that provides useful insights on perceptions and opinions, and is not statistical surveys that yield quantitative results that can be generalized to the population of study. This feedback will provide insights into customer or stakeholder perceptions, experiences, and expectations; provide an early warning of issues with the service; or focus attention on areas where communication, training, or changes in operations might improve delivery of products or services. These collections will allow for ongoing, collaborative, and actionable communications between the Agency and its customers and stakeholders. It will also allow feedback to contribute directly to the improvement of program management.

The solicitation of feedback will target areas such as timeliness, appropriateness, accuracy of information, courtesy, efficiency of service delivery, and resolution of issues with service delivery. Responses will be assessed to plan and inform efforts to improve or maintain the quality of service offered to the public. If this information is not collected, vital feedback from customers and stakeholders on the Agency's services will be unavailable.

Affected Public: Individuals, households, professionals, and/or the public/private sector.

Average estimates for the next three years:

Estimated Total Number of Respondents: 10,000.

Expected Annual Number of Activities: 6.

Average Number of Respondents per Activity: 1,667.

Frequency of Response: Once per Activity.

Average Minutes per Response: 7.

Total Burden Hours: 1,167.

Annualized Burden Hour Table
Number of respondents | Number of responses per respondents | Average burden per response | Total burden hours
10,000 | 1 | 7/60 | 1,167
Total |  |  | 1,167

Dated: February 10, 2021.
Sherrette A. Funn,
Office of the Secretary, Paperwork Reduction Act Reports Clearance Officer.

[FR Doc. 2021-03531 Filed 2-19-21; 8:45 am]

BILLING CODE 4150-45-P